DEPARTMENT OF JUSTICE

Notice of Lodging of Consent Judgment Pursuant to Comprehensive Environmental Response, Compensation, and Liability Act

Notice is hereby given that on September 30, 2003, a proposed Consent Judgment in United States v. City of Glen Cove, et al., Civil Action No. CV-03-4975, was lodged with the United States District Court for the Eastern District of New York.

The Proposed Consent Judgment will resolve the United States' claims under the Comprehensive Environmental Response, Compensation, and Liability Act (“CERCLA”), 42 U.S.C. 9601 et seq., on behalf of the U.S. Environmental Protection Agency (“EPA”) against defendants City of Glen Cove (“City”), and Wah Chang Smelting and Refining Company of America, Inc. (“WCSRCA”) in connection with the Li Tungsten Superfund Site in Glen Cove, New York. The proposed Consent Judgment also resolves the potential contribution liability of four Settling Federal Agencies, the Department of Defense, the General Services Administration, the Department of Commerce, and the Department of the Treasury, to the City and WCSRCA. Pursuant to the Consent Judgment, based on their respective ability to pay, the City will pay $1.6 million (in addition to the $3.6 million in funds and in-kind services it has already provided to EPA) and WCSRCA will pay $700,000 to a Li Tungsten Site Special Account within the Superfund. The United States, on behalf of the Settling Federal Agencies, will pay $20 million to the Special Account, and thereafter be required to make additional payments in the amount of 51 percent of the amount by which the total response costs at the Site exceed $39,216,000.

The Department of Justice will receive for a period of thirty (30) days from the date of this publication comments relating to the proposed Consent Judgment. Comments should be addressed to the Assistant Attorney General of the Environment and Natural Resources Division, Department of Justice, Washington, DC 20530, and should refer to United States v. City of Glen Cove, et al., Civil Action No. CV-03-4975, D.J. Ref. 90-11-3-06561/2.

The proposed Consent Judgment may be examined at the Office of the United States Attorney, Eastern District of New York, One Pierrepont Plaza, 14th Fl., Brooklyn, New York 11201, and at the United States Environmental Protection Agency, Region II, 290 Broadway, New York, New York 10007-1866. During the public comment period, the proposed Consent Judgment may also be examined on the following Department of Justice Web site, http://www.usdoj.gov/enrd/open.html. A copy of the proposed Consent Judgment may be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. If requesting a copy of the proposed Consent Judgment, please so note and enclose a check in the amount of $14.25 (25 cent per page reproduction cost) payable to the U.S. Treasury.

Ronald Gluck,
Assistant Chief, Environmental Enforcement Section, Environment and Natural Resources Division.

[FR Doc. 03-26248 Filed 10-16-03; 8:45 am]

BILLING CODE 4410-15-M